DEPARTMENT OF THE INTERIOR

National Park Service

[N6904; NPS-WASO-NAGPRA-NPS0042034; PPWOCRADN0-PCU00RP14.R50000]

Notice of Inventory Completion: University of Florida, Florida Museum of Natural History, Gainesville, FL

AGENCY: National Park Service, Interior.

ACTION: Notice.

SUMMARY: In accordance with the Native American Graves Protection and Repatriation Act (NAGPRA), the University of Florida, Florida Museum of Natural History (FLMNH) has completed an inventory of human remains and associated funerary objects and has determined that there is a cultural affiliation between the human remains and associated funerary objects and Indian Tribes or Native Hawaiian organizations in this notice.

DATES: Repatriation of the human remains and associated funerary objects in this notice may occur on or after March 23, 2026.

ADDRESSES: Send written requests for repatriation of the human remains and associated funerary objects in this notice to David Blackburn, University of Florida, Florida Museum of Natural History, 1659 Museum Road, Gainesville, FL 32611, email NagpraOffice@floridamuseum.ufl.edu.

SUPPLEMENTARY INFORMATION: This notice is published as part of the National Park Service's administrative responsibilities under NAGPRA. The determinations in this notice are the sole responsibility of the FLMNH and additional information on the determinations in this notice, including the results of consultation, can be found in its inventory or related records. The National Park Service is not responsible for the determinations in this notice.

Abstract of Information Available

Human remains representing at least a total of 416 individuals have been identified from 24 sites across Citrus, Pinellas, Volusia, Highland, Hardee, Indian River, Pasco, Hernando, Polk, and Manatee Counties in Florida. The combined 21,895 objects, includes 21,855 individual catalogs, 13 thin sections, 10 bags, one box, and 14 lots of associated funerary objects consisting of beads, shell, mica, lithics, pottery fragments, fauna, plant material, charcoal, and concretions.

Caladesi Island/Hog Island 8PI9: Human remains representing at least one individual has been identified. There are no associated funerary objects. The site, also known as Hog Island, includes a burial mound located in mangroves east of the island. The accession (Acc. 4633) from this site was collected during a joint expedition with the Florida State Museum, Florida Board of Parks and Historic Memorials, and the Safety Harbor Area Historical Society on August 4, 1968. They were collected from the spoil of the burial mound. On August 1, 2002, part of this accession (Cat no. 104035) was repatriated to the Miccosukee Tribe.

Tierra Verde Mound 8PI51: Human remains representing at least 78 individuals have been identified. The 6,548 associated funerary objects include pottery, shell, thin sections of pottery, and fauna. The site, also known as Cabbage Key Mound, is a large burial mound in Cabbage Key, a small island in the Tampa Bay Area. Collections at the FLMNH originate from donations and a museum expedition led by William Sears. Sears (1966) believed that the numerous burials (concentrated on the eastern portion of the site) were associated with ceremonial pottery and pottery sherds (page 30 & 65).

Cockroach Key 8HI2: Human remains representing at least two individuals have been identified. The 19 associated funerary objects include pottery fragments. The site is a small island on the eastern shore of Tampa Bay. The site was made entirely of shells and midden deposits. There are burials from two areas, an oval burial mound and a level area southeast of the mound. The FLMNH houses accessions from this site that were transferred from the Florida Park Service and the Florida State Geological Survey.

Davis Burial Mound 8HR1: Human remains representing at least one individual has been identified. The 12 associated funerary objects include pottery, lithics, fauna, and shells. The site is 12 miles east-southeast of Zolfo Springs town. Ripley P. Bullen and John Taylor, from the Florida State Museum, performed excavations under a museum expedition before the mound was bulldozed and turned into an orange grove. According to Bullen (1954), the mound was already partially bulldozed by the time Bullen and Taylor arrived. Bullen states that they discovered 12 burials, the majority of which were bundle burials and one cremation.

Peace River/Zolfo Springs site 8HRxxxx: Human remains representing at least one individual has been identified. There are no associated funerary objects. The site is located in Hardee County. The collection from this area, housed in the FLMNH, was found by Eric Kendrew two miles down Peace River from the town of Zolfo Springs. Kendrew donated this collection to the FLMNH Vertebrate Paleontology (VP) department. Later, the VP department transferred the collection to the FLMNH Environmental Archaeology department. Little is known about the precise location and provenience of this collection from this site.

Republic Groves site 8HR4: Human remains representing at least three individuals have been identified. The 17 associated funerary objects include fauna. The site is located six miles southeast of Zolfo Springs town. The site was a Late Archaic period cemetery discovered in 1968 after a bulldozer and dragline operation uncovered the cemetery, according to Wharton et al. (1981). Wharton et al. also states how the site includes two elements, the cemetery and a habitation zone. According to FLMNH records, Mitchell E. Hope, coauthor with Wharton, performed salvage excavations on the site, beginning in 1968. The collections from this site were originally housed by Hope, and then Dr. Audry Sublet of the Florida Atlantic University (FAU) requested the collections, including skeletal materials, to be housed at FAU for future graduate studies. In 1988, Hope requested the skeletal materials be donated to the FLMNH; the donation finally occurred in 1993.

Hudson Burial Mound 8PAxxxx: Human remains representing at least three individuals have been identified. The 158 associated funerary objects include pottery fragments. The site is located near Aripeka in Pasco County, Florida. The mound was found off US 19 going north and is possibly identified as Reedy Site (8PA214). The FLMNH houses collections from this site that were donated by Albert C. Goodyear III (from the Department of Anthropology of the University of Arkansas) on June 28, 1969.

Hope Mound 8PA12: Human remains representing at least nine individuals have been identified. The 2,018 associated funerary objects include shell, pottery, lithics, metal, and beads. The site is a prehistoric burial mound on the edge of a larger shell midden on the south bank of the Anclote River. The site was excavated in 1896 by Frank H. Cushing's. Artifacts were stored in the Bureau of American Ethnology Institute (Smithsonian Institution) before they were moved to the University Museum, University of Pennsylvania. In 1957, most of the collection was sent to John M. Goggin with the University of Florida. After Goggins death in 1963, they were transferred to the FLMNH.

Weeki Wachee 8HE0012: Human remains representing at least 107 individuals have been identified. There are 1,805 associated funerary objects including beads, shells, lithics, pottery, rubber, plants, glass, and metal. The site is located on the grounds of Weeki Wachee Springs Attraction, about 200 yards downstream from the main spring and 75 yards from the river itself. This site is a small mound, approximately 40ft E/W, 30ft N/S, and 2ft high. Three canoes were found in 1954 by Andrew Moody and when he alerted the FSM of his findings an excavation was undertaken by Robert Allen, Pete Cook, and Tom Allen on 6/21/70.

Terra Ceia Island 8MAxxxx: Human remains representing at least one individual has been identified. There are no associated funerary objects. The site is on an island in Tampa Bay and is possibly associated with one of the two burial mounds (Johnson Mound and Prine Mound (8MA83C)), a ceremonial mound (Bickel Mound (8MA83B)), and a large shell midden (Abel Midden (8MA83A) in the area. This site was excavated by Ripley P. Bullen in the early 1950s when Bullen was an Assistant Archaeologist for the Florida Park Service (FPS). Most collections housed at the FLMNH were loaned (and eventually transferred) from the FPS in 1954. The FLMNH also houses collections that were transferred from the University of Florida Anthropology Department. The Terra Ceia Site, according to Bullen, was occupied for 800 years. It included a small village on Abel Shell Midden along with two burial mounds that were connected by walkways between the shell middens and the mounds. The site also contained a ceremonial mound near one of the burial mounds (Prine Mound).

Tomoka State Park 8Voxxxx: Human remains representing at least three individuals have been identified. The four associated funerary objects include unidentified fauna. The exact location of the site is unknown, but it is believed that the Ancestor and associated artifacts came from the area that is not the parking lot. The site was on long term loan to the Museum, then was officially transferred to FLMNH from the Florida Park Service in 2025.

Goods Mound/Alderman/Raulerson 8VO0135: Human remains representing at least four individuals have been identified. There are no associated funerary objects. The site is located on the right shoreline of Harney Lake in a grove of cabbage in Volusia County. At the time the land was owned by Mr. Morgan Alderman. The site is described as a refuse deposit containing Spanish and Indian artifacts that are not curated by FLMNH. The Ancestors were presented to FLMNH by James Gut, n.d.

Blue Springs Mound 8VO0041: Human remains representing at least one individual has been identified. There are no associated funerary objects. The site is Blue Springs and is a large snail and mussel midden that encompasses roughly 1½ acres. A great deal of vandalism has occurred at the site.

Herman Zapps Place/Quay 8IRxxxx: Human remains representing at least four individuals have been identified. There are no associated funerary objects. The Ancestors housed in the FLMNH were transferred in 1979 from the Vertebrate Paleontology Department to the Anthropology Department within the Museum. The origins of these collections stem from Florida Geological Survey excavations led by E. H. Sellard from 1913-1916. The exact locality of the site is unknown but is it noted to be near Quay and Winter Beach.

Phillip Mound 8PO446: Human remains representing at least one individual has been identified. The 181 associated funerary objects include pottery and shell. The site is on the east side of Lake Marion south of the Boy Scout Camp. A fishing camp at the site with a house on top of the “midden mound” adjacent to the lake has been described in reports as of 1977. The burial mound, which was located a very short distance south and east of the “midden mound” had been completely dug over although the shrub oak-covered ramps were mostly intact. Benson's 1967 report indicates that much of the mound had been dug in already by the mid-1960s. According to Karklin's 1974 report, the mound had been destroyed completely by the early 1970s. The collections were donated to FLMNH by Karlis Karlins in 1988.

Bay Pines 8PI0064: Human remains representing at least 33 individuals have been identified. The 328 associated funerary objects include pottery, lithics, charcoal, shell, fauna, and antler. The Bay Pines site is located on Bay Pines Blvd. North at the Bay Pines Veteran's Hospital. It is a shell midden that is comprised of four distinct units. They are a linear shell ridge, a small, and a linear shell deposit. This site was first explored by S.T. Walker in 1880, and excavations were done by Gallagher and Warren in 1972. Tests were done by Swindell in 1975 and Gagel in 1976. The mound under the Nursing Home contained 20-30 burials and is likely where the Ancestors housed at FLMNH were removed from. The collection was presented by Dr. Lyman O. Warren of St. Petersburg, FL in 1975.

Van Fossen 8CI0194: Human remains representing at least one individual has been identified. The 1,309 associated funerary objects include shells, pottery, lithics, and fauna. The Van Fossen site is located on the west bank of the Withlacoochee River in the community of Stokes Ferry. The site was first recorded by Brent Weisman in 1983. At that time, it consisted of a shell midden and a burial mound. Weisman noted that the site had been badly damaged by looting and development. In 2005, Charles E. Pearson revisited the site while conducting a resource investigation of the Withlacoochee Basin for the Army Corps of Engineers. By this time the site had been severely damaged or destroyed by development. The collection was transferred to FLMNH from the Florida Park Service.

Askew Site 8CI0046: Human remains representing at least five individuals have been identified. The 467 objects and 14 lots of associated funerary objects include fauna, lithic, pottery and shell. The site is reported as a prehistoric midden dating to 1000 to 700 BC. The FMSF records state that today the site is currently completely covered by cottages. The site was donated to FLMNH over a series of donations and museum expeditions between 1963 and 1971 from Walter Askew (1964 and 1969) and Albert Goodyear III (1969 and 1971).

Burtine Island 8CI0061: Human remains representing at least one individual has been identified. The 981 individual objects, 10 bags, and two boxes of associated funerary objects include shell, fauna, pottery, lithics, a lighting whelk, and a bone pin. The site is located approximately ½ mile west of the mouth of Richardson Creek and the Cross Florida Barge Canal. It is located on the northwest corner of the island facing west toward the Gulf of Mexico. In 1965, Ripley P. Bullen carried out excavations on the island prior to the deposition of dredge spoil from the barge canal. The site was to be destroyed by dredge in late 1965. He collected over 3000 artifacts and encountered a deposit of disarticulated human remains.

Crystal River 8CI0001: Human remains representing at least 142 individuals have been identified from two mounds at the site (Mound G MNI=59; Main Complex MNI=83). The 7,589 catalogs, 13 thin sections, and one box of associated funerary objects include fauna, shells, pottery, charcoal, lithic, and plant material. The site is located four miles east of the Gulf of Mexico on the north bank of the Crystal River. The site consists of a “complex” of shell and sand works including two flat-topped pyramid mounds with ascending ramps, two stone stelae, two burial mounds, and a large midden. C.B. Moore conducted the first excavations at Crystal River beginning in 1903. By the end of his third visit in 1918, he recovered the remains of at least 429 individuals. Subsequent investigations were limited until Ripley P. Bullen began extensive excavations between 1951 to 1960. Based on this work, Bullen concluded that the site was occupied and constructed during three periods: Santa-Rosa Swift Creek, Weeden Island, and late Weeden Island or Safety Harbor.

Homosassa Site 8CIxxxx: Human remains representing, at least five individuals have been identified. The 409 associated funerary objects include pottery. The site was surface collected from islands in Gulf of Mexico near mouths of Little Homosassa and St. Martin rivers by George and David Cantlin. The collection was donated to FLMNH in 1964 by Georga and David Canlin.

Mullet Key 8CI0022: Human remains representing at least one individual has been identified. The one associated funerary object is a pottery fragment. The site is on an island within the St. Martins Marsh Aquatic Preserve/Crystal River State Buffer Preserve in Citrus County. It is the furthest island out into the Gulf in the preserve. The collection was presented to FLMNH by Mrs. Cathy Patrick, n.d.

Starke Site 8CI0089: Human remains representing at least two individuals have been identified. The nine associated funerary include pottery fragments. The site is a shell midden located on the southeastern tip of the northern portion of Shell Island and is described as badly eroded. The Ancestors were presented to the Florida Museum in 1973 by Wallace Starke.

Casey Key/Synder Site 8SO17: Human remains representing, at least, seven individuals have been identified from the in Sarasota County, Florida. There are no new AFOs to report in this notice. This burial mound and accompanying shell ridge were located along the water's edge. Ripley P. Bullen and Adelaide K. Bullen visited the site in 1959, learning that the site had been looted by school students in the 1940s. In 1985 Marquardt again assessed the sites history while conducting archaeological reconnaissance on Casey Key, Sarasota, Florida. The site came to the FLMNH through various accessions (Acc. 3923, 3942, 76-70, 71-51, 2000-4, 2002-63) between 1954 and 2003. An additional 13 individuals were reported in a Notice of Inventory Completion published in the Federal Register on May 8, 2025 (90 FR 19527) making a total of 20 Ancestors and 80 associated funerary objects present at FLMNH.

Cultural Affiliation

Based on the information available and the results of consultation, cultural affiliation is reasonably identified by the geographical location or acquisition history of the human remains and associated funerary objects described in this notice.

Determinations

The FLMNH has determined that:

• The human remains described in this notice represent the physical remains of 416 individuals of Native American ancestry.

• The 21,895 objects described in this notice are reasonably believed to have been placed intentionally with or near individual human remains at the time of death or later as part of the death rite or ceremony.

• There is a connection between the human remains and associated funerary objects described in this notice and Miccosukee Tribe of Indians and the Seminole Tribe of Florida.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after March 23, 2026. If competing requests for repatriation are received, the FLMNH must determine the most appropriate requestor prior to repatriation. Requests for joint repatriation of the human remains and associated funerary objects are considered a single request and not competing requests. The FLMNH is responsible for sending a copy of this notice to the Indian Tribes and Native Hawaiian organizations identified in this notice.

Authority: Native American Graves Protection and Repatriation Act, 25 U.S.C. 3003, and the implementing regulations, 43 CFR 10.10.

Dated: February 13, 2026.
Melanie O'Brien,
Manager, National NAGPRA Program.

[FR Doc. 2026-03223 Filed 2-18-26; 8:45 am]

BILLING CODE 4312-52-P